DEPARTMENT OF THE INTERIOR

National Park Service

Draft General Management Plan Amendment/Environmental Impact Statement, Petrified Forest National Park, Arizona

AGENCY: National Park Service, Department of Interior.

ACTION: Notice of Termination of Environmental Impact Statement for the General Management Plan, Petrified Forest National Park, in favor of an Environmental Assessment.

SUMMARY: The National Park Service (NPS) is terminating preparation of an Environmental Impact Statement (EIS) for the General Management Plan amendment, Petrified Forest National Park, Arizona. A Notice of Intent to prepare the EIS for the Petrified Forest National Park General Management Plan Amendment was published at 72 FR 159, pages 46244 and 46245, August 17, 2007. The National Park Service has since determined that an Environmental Assessment (EA) rather than an EIS is the appropriate level of environmental documentation for the plan.

SUPPLEMENTARY INFORMATION: The Petrified National Park Expansion Act of 2004 (Pub. L. 108-430) added approximately 125,000 acres in private and other agency ownership to the existing Petrified Forest National Park, and directed the National Park Service to develop a plan to manage the addition lands. A general management plan amendment will establish the overall management direction of the addition lands for the next 15 to 20 years. The plan amendment was originally scoped as an EIS. Publication of the Federal Register Notice was followed with a newsletter to affected agencies and interested parties, and a public meeting in Holbrook, Arizona. However, few comments were received during the scoping process. The NPS planning team has developed two alternative management concepts for the addition lands. The “No-Action” concept would allow for the continuation of existing conditions, and the addition lands would remain a mix of private, state, and NPS ownership, with a small proportion of those lands owned and managed by the NPS. Current land uses, activities, and structures would remain, and resources would not necessarily be well protected.

The “Preferred” concept would allow for cautious NPS management of addition lands within NPS jurisdiction, while gathering as much information about them as possible. Resource inventories, condition assessments, and research would be conducted to increase understanding of the addition lands. This concept provides for a higher level of resource protection than the No-Action concept. These management concepts will be expanded upon and refined through the planning/environmental assessment process.

DATES: The NPS will notify the public by mail, Web site, and other means, of public review periods and meetings associated with the draft GMP amendment/EA. All public review and other written public information will be made available online at http://parkplanning.nps.gov/pefo.

FOR FURTHER INFORMATION CONTACT: Cliff Spencer, Superintendent, Petrified Forest National Park, P.O. Box 2217, Petrified Forest, Arizona 86028; telephone, (928) 524-6228, extension 225; e-mail cliff_spencer@nps.gov.

Dated: December 8, 2008.
Michael D. Snyder,
Regional Director, Intermountain Region, National Park Service.

[FR Doc. E8-30135 Filed 12-18-08; 8:45 am]

BILLING CODE 4310-7V-P